DEPARTMENT OF ENERGY

Federal Energy Regulatory Commission

[Project No. 2660-038]

Woodland Pulp, Llc; Notice of Intent to Prepare an Environmental Assessment

On October 31, 2023, and supplemented December 15, 2023, Woodland Pulp, LLC (licensee) filed an application to surrender the license for the Forest City Storage Project No. 2660. The project is located on the East Branch of the St. Croix River in Washington and Aroostook counties, Maine. The project does not occupy federal land.

The Commission previously issued a notice of application for surrender of license accepted for filing, soliciting comments, motions to intervene, and protests on January 25, 2024. The Commission extended the closing date of the comment period by notice on February 20, 2024, and April 18, 2024. The comment period closed on June 28, 2024. On August 22, 2024, the Commission issued a notice granting late intervention to the Peskotomuhkati Nation at Skutik. The Commission received numerous comments and motions to intervene from members of the public, resource agencies, and non-governmental organizations. The January 25, 2024, notice also invited federal, state, local, and Tribal agencies with jurisdiction and/or special expertise with respect to environmental issues affected by the proposal, to cooperate in the preparation of any environmental document. The Commission did not receive any requests to be a cooperating agency.

This notice identifies Commission staff's intention to prepare an environmental assessment (EA) for the project.¹ Commission staff plans to issue an EA by June 30, 2025. Revisions to the schedule may be made as appropriate. The EA will be issued for a 30-day public comment period. All comments filed on the EA will be reviewed by staff and considered in the Commission's final decision on the proceeding.

¹ In accordance with the Council on Environmental Quality's regulations, the unique identification number for documents relating to this environmental review is EAXX-019-20-000-1731404846. 40 CFR 1501.5(c)(4) (2024).

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Michael Calloway at 202-502-8041 or Michael.calloway@ferc.gov.

Dated: November 12, 2024
Debbie-Anne A. Reese,
Secretary.

[FR Doc. 2024-26822 Filed 11-15-24; 8:45 am]

BILLING CODE 6717-01-P